FEDERAL COMMUNICATIONS COMMISSION

Notice of Public Information Collection(s) Being Submitted for Review and Approval to the Office of Management and Budget (OMB), Comments Requested

August 24, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 28, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to Judith-B.Herman@fcc.gov, Federal Communications Commission, and an email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: The Commission is seeking emergency processing of this information collection by September 8, 2009.

OMB Control Number: 3060-XXXX.

Title: First Responder Emergency Contact Information in the Universal Licensing System (ULS).

Form No.: N/A.

Type of Review: New collection.

Respondents: Business or other for-profit, not-for-profit institutions and state, local or tribal government.

Number of Respondents: 133,095 respondents; 133,095 responses.

Estimated Time per Response: 25 hours (15 minutes).

Frequency of Response: On occasion reporting requirement.

Obligation to Respond: Voluntary. There is no statutory authority for this information collection.

Total Annual Burden: 36,601 hours.

Total Annual Cost: N/A.

Privacy Act Impact Assessment: No.

Nature and Extent of Confidentiality:

Needs and Uses: The Commission will submit this new information collection (IC) to the OMB under their emergency processing provisions in 5 CFR 1320.13. The Commission is requesting OMB approval by September 8, 2009 so that the information will be available for Commission use during the latter half (and most severe period) of the hurricane season.

The Public Safety and Homeland Security Bureau (PSHSB) of the Federal Communications Commission enhanced the existing Universal Service Licensing System (ULS) to collect operational point of contact information from public safety and non-public safety licensees designated as emergency first responders responsible for coordinating with state, county and local authorities during times of emergency. The process of procuring and maintaining spectrum using the ULS remains intact and requires no additional training for licensees to participate in this voluntary collection. This enhancement to ULS to collect operational point of contact information will enable Commission staff to more effectively provide immediate assistance and outreach to licensees during times of emergency. Using this information, the Bureau will be able to coordinate among licensees in given geographic areas to make more wireless radio service available to emergency first responders and emergency operations.

Public safety licensees and non-public safety licensees designated as emergency first responders operating pursuant to Part 90 of the Commission's rules should identify the following information regarding the operational point of contact for the licensee directly responsible for coordinating with the state, county, and/or local emergency authorities. They will enter the following information in the ULS system:

(1) Name and title;

(2) Office telephone number;

(3) Mobile telephone number, and

(4) E-mail address.

Once the emergency request is approved by OMB, the Bureau will issue a Public Notice with step-by-step instructions on how to use the enhanced features made available to licensees to provide this information.

Federal Communications Commission.
William F. Caton,
Deputy Secretary.

[FR Doc. E9-20670 Filed 8-26-09; 8:45 am]

BILLING CODE 6712-01-P